DEPARTMENT OF ENERGY

Federal Energy Regulatory Commission

Combined Notice of Filings #2

Take notice that the Commission received the following electric corporate filings:

Docket Numbers: EC12-64-000.

Applicants: Franklin Resources, Inc.

Description: Request for Reauthorization and Extension of Blanket Authorizations under Section 203 of the Federal Power Act of Franklin Resources, Inc.

Filed Date: 2/3/12.

Accession Number: 20120203-5148.

Comments Due: 5 p.m. ET 2/24/12.

Take notice that the Commission received the following electric rate filings:

Docket Numbers: ER11-2715-004.

Applicants: Interstate Power and Light Company.

Description: Interstate Power and Light Company submits tariff filing per 35: IPL Amended and Restated O&T Agreement with ITCM & CIPCO to be effective 12/31/9998.

Filed Date: 2/3/12.

Accession Number: 20120203-5109.

Comments Due: 5 p.m. ET 2/24/12.

Docket Numbers: ER12-480-000.

Applicants: Midwest Independent Transmission System Operator, Inc.

Description: Response to Letter Requesting Additional Information of Midwest Independent Transmission System Operator, Inc.

Filed Date: 2/3/12.

Accession Number: 20120203-5146.

Comments Due: 5 p.m. ET 2/24/12.

Docket Numbers: ER12-653-001.

Applicants: Arizona Public Service Company.

Description: Arizona Public Service Company submits tariff filing per 35.17(b): Addendum to Service Agreement 319; Interconnection Agreement ANPP & AVSE II to be effective 12/15/2011.

Filed Date: 2/3/12.

Accession Number: 20120203-5098.

Comments Due: 5 p.m. ET 2/24/12.

Docket Numbers: ER12-795-001.

Applicants: High Liner Foods Incorporated.

Description: High Liner Foods Incorporated submits tariff filing per: Amended Filing to be effective N/A.

Filed Date: 2/3/12.

Accession Number: 20120203-5144.

Comments Due: 5 p.m. ET 2/24/12.

Docket Numbers: ER12-986-000.

Applicants: ResCom Energy LLC.

Description: ResCom Energy LLC submits tariff filing per 35.1: Baseline Tariff Filing to be effective 2/3/2012.

Filed Date: 2/3/12.

Accession Number: 20120203-5071.

Comments Due: 5 p.m. ET 2/24/12.

Docket Numbers: ER12-987-000.

Applicants: PJM Interconnection, LLC, Virginia Electric and Power Company.

Description: PJM Interconnection, LLC submits tariff filing per 35.13(a)(2)(iii: PJM Service Agreement No. 3191—WDSA among Dominion and Richmond Energy LLC to be effective 1/4/2012.

Filed Date: 2/3/12.

Accession Number: 20120203-5097.

Comments Due: 5 p.m. ET 2/24/12.

Docket Numbers: ER12-988-000.

Applicants: San Diego Gas & Electric Company.

Description: San Diego Gas & Electric Company submits tariff filing per 35.13(a)(2)(iii: Desert Star Service Agreement to be effective 4/4/2012.

Filed Date: 2/3/12.

Accession Number: 20120203-5099.

Comments Due: 5 p.m. ET 2/24/12.

Docket Numbers: ER12-989-000.

Applicants: California Independent System Operator Corporation.

Description: California Independent System Operator Corporation submits tariff filing per 35.13(a)(2)(iii: 2012-02-03 CAISO's LGIA with San Diego Gas & Electric Co. to be effective 4/4/2012.

Filed Date: 2/3/12.

Accession Number: 20120203-5105.

Comments Due: 5 p.m. ET 2/24/12.

Docket Numbers: ER12-990-000.

Applicants: PacifiCorp.

Description: PacifiCorp submits tariff filing per 35.15: Termination of Bountiful Parrish Sub Construction Agreement to be effective 4/10/2012.

Filed Date: 2/3/12.

Accession Number: 20120203-5110.

Comments Due: 5 p.m. ET 2/24/12.

Docket Numbers: ER12-991-000.

Applicants: ISO New England Inc.

Description: ISO New England Inc. submits tariff filing per 35.13(a)(2)(iii: Rev to Att K and MR1 Reg Res for Reliability Treated in RSP Process to be effective 4/3/2012.

Filed Date: 2/3/12.

Accession Number: 20120203-5120.

Comments Due: 5 p.m. ET 2/24/12.

Docket Numbers: ER12-992-000.

Applicants: California Independent System Operator Corporation.

Description: California Independent System Operator Corporation submits tariff filing per 35.13(a)(2)(iii: 2012-02-03 Att B—Marked Tariff MSG Enhancements.pdf to be effective 4/4/2012 under ER12-992. Filing Type: 10.

Filed Date: 2/3/12.

Accession Number: 20120203-5125.

Comments Due: 5 p.m. ET 2/24/12.

Docket Numbers: ER12-993-000.

Applicants: Robbins Energy, LLC.

Description: Robbins Energy, LLC submits tariff filing per 35.1: Baseline Tariff Filing to be effective 2/3/2012.

Filed Date: 2/3/12.

Accession Number: 20120203-5157.

Comments Due: 5 p.m. ET 2/24/12.

Docket Numbers: ER12-994-000.

Applicants: Parkview AMC Energy, LLC.

Description: Parkview AMC Energy, LLC submits tariff filing per 35.1: Baseline Tariff Filing to be effective 2/3/2012.

Filed Date: 2/3/12.

Accession Number: 20120203-5158.

Comments Due: 5 p.m. ET 2/24/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2012.
Nathaniel J. Davis, Sr.,
Deputy Secretary.

[FR Doc. 2012-3110 Filed 2-9-12; 8:45 am]

BILLING CODE 6717-01-P